DEPARTMENT OF ENERGY

Federal Energy Regulatory Commission

[Project No. 2516-026-WV and Project No. 2517-010-WV]

Allegheny Energy Supply Company, LLC; Notice of Proposed Restricted Service List for a Programmatic Agreement for Managing Properties Included in or Eligible for Inclusion in the National Register of Historic Places; Project No. 2516-026-WV, Dam No. 4 Hydro Station and Project No. 2517-010-WV, Dam No. 5 Hydro Station

July 31, 2003.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the West Virginia Historic Preservation Officer (hereinafter, WVSHPO), the Maryland Historic Preservation Officer (hereinafter, MDSHPO), and the Advisory Council on Historic Preservation (hereinafter, Advisory Council) pursuant to the Council's regulations, 36 CFR part 800, implementing Section 106 of the National Historic Preservation Act, as amended, (16 U.S.C. 470 f), to prepare a Programmatic Agreement for managing properties included in, or eligible for inclusion in, the National Register of Historic Places at Project Nos. 2516-026 and 2517-010.

The Programmatic Agreement, when executed by the Commission, the SHPO, and the Advisory Council, would satisfy the Commission's Section 106 responsibilities for all individual undertakings carried out in accordance with the licenses until the licenses expire or are terminated (36 CFR 800.13[e]). The Commission's responsibilities pursuant to Section 106 for the project would be fulfilled through the Programmatic Agreement, which the Commission staff proposes to draft in consultation with certain parties listed below. The executed Programmatic Agreement would be incorporated into any licenses issued.

Allegheny Energy Supply Company, LLC, as prospective licensee for Project Nos. 2516-026 and 2517-010, is invited to participate in consultations to develop the Programmatic Agreement and to sign as a concurring party to the Programmatic Agreement. For purposes of commenting on the Programmatic Agreement, we propose to restrict the service list for Project Nos. 2516-026 and 2517-010 as follows:

Dr. Laura Henley Dean, Advisory Council on Historic Preservation, The Old Post Office Building, Suite 803, 1100 Pennsylvania Avenue, NW., Washington, DC 20004.

Charles L. Simons, Allegheny Energy Supply Company, LLC, 4350 Northern Pike, Monroeville, PA 15146.

Nancy Herholdt, SHPO, West Virginia Division of Culture & History, Historic Preservation Office, 1900 Kanawha Boulevard East, Charleston, WV 25305-0300.

J. Rodney Little, SHPO, Maryland Historical Trust, 100 Community Place, Third Floor, Crownsville, MD 21032-2023.

Douglas Faris, Superintendent, C&O Canal NHP Headquarters, 1850 Dual Highway, Suite 100, Hagerstown, MD 21740.

Vernon Isaac, Chief, Cayuga Nation, P.O. Box 11, Versailles, NY 14168.

Bruce Gonzalez, President, Delaware Nation, P.O. Box 825, Anadarko, OK 73005.

Larry Joe Brooks, Chief, Delaware Tribe of Indians, 220 NW Virginia Ave, Bartlesville, OK 74003.

Leo R. Henry, Clerk, Chief, Tuscarora Nation, 2006 Mt. Hope Road, Via: Lewiston, NY 14092,

Dr. James Kardatzke, Bureau of Indian Affairs, 711 Stewarts Ferry Pike, Nashville, TN 37214.

Any person on the official service list for the above-captioned proceedings may request inclusion on the restricted service list, or may request that a restricted service list not be established, by filing a motion to that effect within 15 days of this notice date. An original and eight copies of any such motion must be filed with the Magalie R. Salas, Secretary, Federal Energy Regulatory Commission, 888 First Street, NE., Washington, DC 20426, and must be served on each person whose name appears on the official service list. If no such motions are filed, the restricted service list will be effective at the end of the 15 day period. Otherwise, a further notice will be issued ruling on the motion.

Linda Mitry,
Acting Secretary.

[FR Doc. 03-19994 Filed 8-5-03; 8:45 am]

BILLING CODE 6717-01-P